DEPARTMENT OF LABOR

Employment and Training Administration

Agency Information Collection Activities; Comment Request; Transmittal for Unemployment Insurance Materials

ACTION: Notice.

SUMMARY: The Department of Labor's (DOL's), Employment and Training Administration (ETA) is soliciting comments concerning a proposed extension for the authority to conduct the information collection request (ICR) titled, “Transmittal for Unemployment Insurance Materials.” This comment request is part of continuing Departmental efforts to reduce paperwork and respondent burden in accordance with the Paperwork Reduction Act of 1995 (PRA).

DATES: Consideration will be given to all written comments received by February 26, 2019.

ADDRESSES: A copy of this ICR with applicable supporting documentation, including a description of the likely respondents, proposed frequency of response, and estimated total burden, may be obtained free by contacting Agnes Wells by telephone at (202) 693-2996, TTY 1-877-889-5627 (these are not toll-free numbers), or by email at Wells.Agnes@dol.gov.

Submit written comments about or requests for a copy of this ICR by mail or courier to the U.S. Department of Labor, Employment and Training Administration, Office of Unemployment Insurance, Room S-4520, 200 Constitution Avenue NW, Washington, DC 20210, by email at Wells.Agnes@dol.gov, or by Fax at (202) 693-3975.

FOR FURTHER INFORMATION CONTACT: Thomas Clendenning by telephone at (202) 693-3458 (this is not a toll-free number) or by email at Clendenning.Thomas.J@dol.gov.

SUPPLEMENTARY INFORMATION: As part of continuing efforts to reduce paperwork and respondent burden, DOL conducts a pre-clearance consultation program to provide the general public and Federal agencies an opportunity to comment on proposed and/or continuing collections of information before submitting them to the Office of Management and Budget (OMB) for final approval. This program helps to ensure requested data is provided in the desired format, reporting burden (time and financial resources) is minimized, collection instruments are clearly understood, and the impact of collection requirements can be properly assessed.

ETA's administrative procedures regulation, found at 20 CFR 601, sets out the collection of information requirements. Sections 601.2 requires states to submit copies of their unemployment compensation (UC) laws for approval by the Secretary of Labor (Secretary) so that the Secretary may determine the status of state laws and plans of operation. Section 601.3 requires states to “submit all relevant state materials such as statutes, executive and administrative orders, legal opinions, rules, regulations, interpretations, court decisions, etc.”

These materials are used by the Secretary to determine whether the state law contains provisions required by Section 3304(a) of the Internal Revenue Code of 1986. DOL provides grants to states to fund the administration of their employment security laws if their UC laws and their plans of operation for public employment offices meet required conditions of Federal laws. The information transmitted by Form MA 8-7 is used by the Secretary to make findings (as specified in the above cited Federal laws) required for certification to the Secretary of the Treasury for payment to states or for certification of the state law for purposes of providing additional tax credits to employers in states with UC laws conforming to Federal law. If this information is not available, the Secretary cannot make such certifications. To facilitate transmittal of required material, DOL prescribes the use of Form MA 8-7, Transmittal for Unemployment Insurance Materials. This simple check-off form is used by the states to identify material being transmitted to the National Office and allows the material to be routed to appropriate staff for prompt action. 20 CFR 601.2 and 601.3 authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0222.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revisions.

Title of Collection: Transmittal for Unemployment Insurance Materials.

Form: MA 8-7.

OMB Control Number: 1205-0222.

Affected Public: State Workforce Agencies.

Estimated Number of Respondents: 53.

Frequency: Varies.

Total Estimated Annual Responses: 301.

Estimated Average Time per Response: 0.25 hour.

Estimated Total Annual Burden Hours: 75 hours.

Total Estimated Annual Other Cost Burden: $0.

Authority: 44 U.S.C. 3506(c)(2)(A).

Molly E. Conway,
Acting Assistant Secretary for Employment and Training, Labor.

[FR Doc. 2018-28224 Filed 12-27-18; 8:45 am]

BILLING CODE 4510-FW-P